DEPARTMENT OF ENERGY

Federal Energy Regulatory Commission

Combined Notice of Filings #1

Take notice that the Commission received the following electric rate filings:

Docket Numbers: ER19-1541-000.

Applicants: Midcontinent Independent System Operator, Inc.

Description: Second Supplement to April 9, 2019 Pre-Arranged/Pre-Agreed (Stipulation and Offer of Settlement) Filing, et al. of the Midcontinent Independent System Operator, Inc., et al.

Filed Date: 4/30/19.

Accession Number: 20190430-5489.

Comments Due: 5 p.m. ET 5/6/19.

Docket Numbers: ER19-1656-001.

Applicants: Wilkinson Solar LLC.

Description: Tariff Amendment: Supplement to Application for Market-Based Rate Authorization to be effective 6/24/2019.

Filed Date: 4/24/19.

Accession Number: 20190424-5077.

Comments Due: 5 p.m. ET 5/15/19.

Docket Numbers: ER19-1695-000.

Applicants: California Transmission Project Corp.

Description: Request for One-Time Limited Waiver, et al. of California Transmission Project Corp.

Filed Date: 4/29/19.

Accession Number: 20190429-5056.

Comments Due: 5 p.m. ET 5/20/19.

Docket Numbers: ER19-1733-000.

Applicants: Sierra Pacific Power Company.

Description: § 205(d) Rate Filing: Service Agreement No. 18-00023 SPPC/Patua to be effective 4/1/2019.

Filed Date: 4/30/19.

Accession Number: 20190430-5402.

Comments Due: 5 p.m. ET 5/21/19.

Docket Numbers: ER19-1734-000.

Applicants: The Potomac Edison Company, PJM Interconnection, L.L.C.

Description: § 205(d) Rate Filing: Potomac submits a CA, Service Agreement No. 5275 with Town of Williamsport to be effective 6/29/2019.

Filed Date: 4/30/19.

Accession Number: 20190430-5416.

Comments Due: 5 p.m. ET 5/21/19.

Docket Numbers: ER19-1735-000.

Applicants: Sierra Pacific Power Company.

Description: § 205(d) Rate Filing: Service Agreement No. 16-00063 SPPC/Patua to be effective 4/1/2019.

Filed Date: 4/30/19.

Accession Number: 20190430-5419.

Comments Due: 5 p.m. ET 5/21/19.

Docket Numbers: ER19-1736-000.

Applicants: Tampa Electric Company.

Description: § 205(d) Rate Filing: Emergency Interchange Service Schedule A&B-2019 (Bundled) to be effective 5/1/2019.

Filed Date: 4/30/19.

Accession Number: 20190430-5440.

Comments Due: 5 p.m. ET 5/21/19.

Docket Numbers: ER19-1737-000.

Applicants: New England Power Pool Participants Committee.

Description: § 205(d) Rate Filing: Kuser Membership Filing to be effective 5/1/2019.

Filed Date: 4/30/19.

Accession Number: 20190430-5446.

Comments Due: 5 p.m. ET 5/21/19.

Docket Numbers: ER19-1738-000.

Applicants: PSEG Fossil Sewaren Urban Renewal LLC.

Description: Baseline eTariff Filing: Application for Market Based Rate to be effective 6/30/2019.

Filed Date: 4/30/19.

Accession Number: 20190430-5447.

Comments Due: 5 p.m. ET 5/21/19.

Take notice that the Commission received the following electric securities filings:

Docket Numbers: ES19-27-000.

Applicants: Ameren Transmission Company of Illinois.

Description: Application under Section 204 of the Federal Power Act for Authorization to Issue Securities of Ameren Transmission Company of Illinois.

Filed Date: 4/30/19.

Accession Number: 20190430-5490.

Comments Due: 5 p.m. ET 5/21/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2019.
Kimberly D. Bose,
Secretary.

[FR Doc. 2019-09291 Filed 5-6-19; 8:45 am]

BILLING CODE 6717-01-P